OFFICE OF THE UNITED STATES TRADE REPRESENTATIVE

Fiscal Year 2024 Allocation of Additional Tariff-Rate Quota Volume for Raw Cane Sugar

AGENCY: Office of the United States Trade Representative.

ACTION: Notice.

SUMMARY: The Office of the United States Trade Representative (USTR) is providing notice of the allocation of additional Fiscal Year (FY) 2024 in-quota quantities of the World Trade Organization (WTO) tariff-rate quota (TRQ) for imported raw cane sugar.

DATES: The changes made by this notice are applicable as of March 19, 2024.

FOR FURTHER INFORMATION CONTACT: Erin Nicholson, Office of Agricultural Affairs, at 202-395-9419, or Erin.H.Nicholson@ustr.eop.gov.

SUPPLEMENTARY INFORMATION: Pursuant to Additional U.S. Note 5 to Chapter 17 of the Harmonized Tariff Schedule of the United States (HTSUS), the United States maintains WTO TRQs for imports of raw cane and refined sugar. Section 404(d)(3) of the Uruguay Round Agreements Act (19 U.S.C. 3601(d)(3)) authorizes the President to allocate the in-quota quantity of a TRQ for any agricultural product among supplying countries or customs areas. The President delegated this authority to the U.S. Trade Representative under Presidential Proclamations 6763 (60 FR 1007) and 7235 (64 FR 55611).

On March 7, 2024, the U.S. Department of Agriculture announced additional in-quota quantity of the WTO TRQ for raw cane sugar for the remainder of FY 2024 (ending September 30, 2024) in the amount of 125,000 metric tons raw value (MTRV) (conversion factor: 1 metric ton raw value = 1.10231125 short tons raw value). This quantity is in addition to the minimum amount to which the United States is committed under the WTO Agreement (1,117,195 MTRV). USTR is allocating this additional quantity of 125,000 MTRV to the following countries in the amounts specified below:

Country | FY 2024 raw sugar TRQ increase allocation (MTRV)
Australia | 15,555
Belize | 2,061
Bolivia | 1,499
Brazil | 27,174
Colombia | 4,498
Costa Rica | 2,811
Ecuador | 2,061
El Salvador | 4,873
Eswatini (Swaziland) | 2,998
Fiji | 1,687
Guatemala | 8,996
Guyana | 2,249
Honduras | 1,874
Jamaica | 2,061
Mozambique | 2,436
Peru | 7,684
Philippines | 25,300
South Africa | 4,310
Thailand | 2,624
Zimbabwe | 2,249

The allocation of the increased in-quota quantities of the raw cane sugar WTO TRQ to countries that are net importers of sugar are conditioned on receipt of the appropriate verifications of origin. Certificates of quota eligibility must accompany imports from any country for which an allocation has been provided.

Douglas McKalip,
Chief Agricultural Negotiator, Office of the United States Trade Representative.

[FR Doc. 2024-05763 Filed 3-18-24; 8:45 am]

BILLING CODE 3390-F4-P